DEPARTMENT OF HOUSING AND URBAN DEVELOPMENT

[Docket No. FR-5121-N-08]

Notice of Proposed Information Collection: Comment Request; Certificate of Need for Health Facility and Assurance of Enforcement of State Standards

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: April 16, 2007.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_L_Deitzer@hud.gov.

FOR FURTHER INFORMATION CONTACT: Joe Malloy, Deputy Director, Office of Multifamily Development, Department of Housing and Urban Development, 451 7th Street, SW., Washington, DC 20410, telephone (202) 708-1142 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency’s estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Certificate of Need of Health Facility and Assurance of Enforcement of State Standards.

Omb Control Number, If Applicable: 2502-0210.

Description of the Need for the Information and Proposed Use: The Department requires a State review of health care facilities insured under Section 232. Form HUD-2576-HF, Certificate of Need (CoN) is issued by the State agency with jurisdiction designated under Section 604(a)(1) or Section 1521 of the Public Health Service Act. The State certification must provide evidence that (1) There is a need for the project; (2) There is a reasonable minimum standards in force for licensure and for operating the project in the State or other political subdivision in which the project is located; and (3) These standards will be enforced for the HUD-insured project.

Agency Form Numbers, If Applicable: HUD-2576-HF.

Estimation of the total numbers of hours needed to prepare the information collection including number of respondents, frequency of response, and hours of response: The number of burden hours is 10. The number of respondents is 50, the frequency of response is on occasion, and the burden hour per response is 12 minutes.

Status of the Proposed Information Collection:

Authority: The Paperwork Reduction Act of 1995, 44 U.S.C., Chapter 35, as amended.

Dated: February 9, 2007.
Frank L. Davis,
General Deputy Assistant Secretary for Housing-Deputy Federal Housing Commissioner.

[FR Doc. E7-2711 Filed 2-14-07; 8:45 am]

BILLING CODE 4210-67-P